RAILROAD RETIREMENT BOARD

Sunshine Act Meetings

TIME AND DATE: 12 p.m., December 13, 2023.

PLACE: 844 North Rush Street, Chicago, Illinois 60611.

STATUS: Closed.

MATTERS TO BE CONSIDERED: (1) Litigation Matter.

CONTACT PERSON FOR MORE INFORMATION: Stephanie Hillyard, Secretary to the Board, Phone No. 312-751-4920.

Dated: December 8, 2023.
Stephanie Hillyard,
Secretary to the Board.

By unanimous, recorded vote of the Board members of the Railroad Retirement Board, such Board members determined that agency business required that this meeting be called with less than one week notice. 5 U.S.C. 552b(e)(1).

[FR Doc. 2023-27420 Filed 12-11-23; 11:15 am]

BILLING CODE 7905-01-P